DEPARTMENT OF LABOR

Office of the Secretary

Submission for OMB Review: Comment Request

June 1, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Occupational Safety and Health Administration (OSHA), Office of Management and Budget, Room 10235, Washington, DC 20503, Telephone: 202-395-7316/Fax: 202-395-5806 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Existing collection in use without an OMB Control Number.

Title of Collection: OSHA Training Institute Education Centers Program, and OSHA Outreach Training Program Data Collection.

OMB Control Number: Pending.

Affected Public: Business or other for-profits and Individuals or Households.

Estimated Number of Respondents: 13,025.

Estimated Total Annual Burden Hours: 11,135.

Estimated Total Annual Costs Burden (Operation and Maintenance): $0.

Description: OSHA's Office of Training and Educational Programs is designed to recognize and promote excellence in safety and health training. The OSHA Training Institute's (OTI) Education Centers offer courses for the private sector and other Federal agency personnel at locations throughout the United States. OSHA extends its training reach to workers through its various Outreach Training Programs. Through the Outreach Training Programs, qualified individuals complete an OSHA trainer course and become authorized to teach student courses. The collection of information requirements contained in these programs are necessary to evaluate the applicant organization and to implement, oversee, and monitor the OTI Education Centers and Outreach Training Programs, courses and trainers. For additional information, see the related 60-day preclearance notice published in the Federal Register on September 22, 2009 (Vol. 74, page 48293). PRA documentation prepared in association with the preclearance notice is available on http://www.regulations.gov under docket number OSHA-2009-0022.

Darrin A. King,
Departmental Clearance Officer.

[FR Doc. 2010-13611 Filed 6-7-10; 8:45 am]

BILLING CODE 4510-26-P